SOCIAL SECURITY ADMINISTRATION

Agreement on Social Security between the United States and Australia; Entry Into Force

AGENCY: Social Security Administration (SSA).

ACTION: Notice.

SUMMARY: The Commissioner of Social Security gives notice that an agreement coordinating the United States (U.S.) and Australian social security programs entered into force on October 1, 2002. The agreement with Australia, which was signed on September 27, 2001, is similar to U.S. social security agreements already in force with 19 other countries—Austria, Belgium, Canada, Chile, Finland, France, Germany, Greece, Ireland, Italy, Korea (South), Luxembourg, the Netherlands, Norway, Portugal, Spain, Sweden, Switzerland, and the United Kingdom. Agreements of this type are authorized by section 233 of the Social Security Act.

The U.S.-Australian agreement eliminates dual coverage and contributions under the U.S. Social Security program and the Australian program of mandatory employer retirement contributions known as “Superannuation Guarantee.” U.S. companies that employ U.S. citizens or residents in Australia have frequently been required to pay contributions with respect to the employees' wages under both the U.S. Social Security program and Australia's Superannuation Guarantee program. Australian companies with Australian employees working in the United States have frequently faced the same dual contribution obligation. Under the U.S.-Australian agreement, workers are covered under one program or the other, but not both, and contributions are only due under that one program. A worker who is sent by an employer in one country to work in the other country for 5 years or less remains covered only by the program of the sending country. The agreement includes additional rules that eliminate dual U.S. and Australian coverage in other work situations.

The agreement also helps eliminate situations where workers suffer a loss of benefit rights under the social security system of one or both countries because they have divided their careers between the two countries. Under the agreement, workers may qualify for partial social security benefits from each country based on combined credits from both countries.

Individuals who wish to obtain copies of the agreement or want more information about its provisions may write to the Social Security Administration, Office of International Programs, Post Office Box 17741, Baltimore, MD 21235-7741 or visit the Social Security Web site at www.ssa.gov/international.

Dated: October 28, 2002.
Jo Anne B. Barnhart,
Commissioner of Social Security.

[FR Doc. 02-28027 Filed 11-4-02; 8:45 am]

BILLING CODE 4191-02-P